DEPARTMENT OF COMMERCE

National Oceanic and Atmospheric Administration

[RTID 0648-XB558]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a one-day in-person and virtual (hybrid) meeting of its Standing, Reef Fish, Ecosystem and Socioeconomic Scientific and Statistical Committees (SSC).

DATES: The meeting will take place Thursday, November 18, 2021, from 8:30 a.m. to 5 p.m., EST.

ADDRESSES: The in-person meeting will take place at the Gulf Council office. If you are unable to travel, you may attend via webinar. Registration information will be available on the Council's website by visiting www.gulfcouncil.org and clicking on the SSC meeting on the calendar.

Council address: Gulf of Mexico Fishery Management Council, 4107 W Spruce Street, Suite 200, Tampa, FL 33607; telephone: (813) 348-1630.

FOR FURTHER INFORMATION CONTACT: Mr. Ryan Rindone, Lead Fishery Biologist, Gulf of Mexico Fishery Management Council; ryan.rindone@gulfcouncil.org; telephone: (813) 348-1630.

SUPPLEMENTARY INFORMATION:

Thursday, November 18, 2021; 8:30 a.m.-5 p.m., EST

The meeting will begin with Introductions and Adoption of Agenda, Approval of Verbatim Minutes and Meeting Summary from the September 27-30, 2021 hybrid meeting, and review of the Scope of Work.

The Committees will review and evaluate the SEDAR 70 projections for Gulf of Mexico Greater Amberjack, including presentations on the data, assessment and projections, and hold an SSC discussion for considering management recommendations.

The Committees will then review and evaluate the projections for SEDAR 72: Gulf of Mexico Gag, including presentations on the data and projections, Something's Fishy for Gag, and hold an SSC discussion for considering management recommendations.

The Committees will review SEDAR 68: Gulf of Mexico Scamp Research Track Assessment. The Committees will receive presentations on the data, assessment development, and peer-review. Council staff will present on Something's Fishy for Gulf Scamp. Next, the Committees will review and discuss the Terms of Reference (TOR) for SEDAR 68: Gulf of Mexico Scamp Operational Assessment, background and hold an SSC discussion.

Lastly, the Committees will receive public comment before addressing any items under Other Business.

—Meeting Adjourns

The meeting will be also be broadcast via webinar. You may register for the webinar by visiting www.gulfcouncil.org and clicking on the SSC meeting on the calendar.

The Agenda is subject to change, and the latest version along with other meeting materials will be posted on www.gulfcouncil.org as they become available.

Although other non-emergency issues not on the agenda may come before the Scientific and Statistical Committees for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take-action to address the emergency.

Special Accommodations

The meeting is physically accessible to people with disabilities. Requests for sign language interpretation or other auxiliary aid should be directed to Kathy Pereira, (813) 348-1630, at least 5 days prior to the meeting date.

(Authority: 16 U.S.C. 1801 et seq.)

Dated: October 27, 2021.
Tracey L. Thompson,
Acting Deputy Director, Office of Sustainable Fisheries, National Marine Fisheries Service.

[FR Doc. 2021-23752 Filed 10-29-21; 8:45 am]

BILLING CODE 3510-22-P